DEPARTMENT OF HEALTH AND HUMAN SERVICES

Centers for Disease Control and Prevention

[60Day-06-05CL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Evaluation of Adults' and Children's Views Related to Promotion of Healthy Food Choices—New—National Center for Chronic Disease Prevention and Health Promotion (NCCDPHP), Centers for Disease Control and Prevention (CDC).

Background and Brief Description

In FY 2004, Congress directed the Centers for Disease Control and Prevention (CDC) to conduct formative research on the attitudes of children and parents regarding nutrition behavior. Specifically, the conferees' FY 2004 Appropriation Language instructs CDC to research parents' and children's viewpoints on “the characteristics of effective marketing of foods to children to promote healthy food choices.” Upon completion, a report detailing CDC's findings is to “be submitted to the appropriate Committees of jurisdiction of Congress.”

In response, CDC has contracted with the Academy for Educational Development (AED) to conduct focus groups to identify key audience concepts around food choices, and develop and test concepts and messages aimed at increasing healthy food choices among children. For the research to be useful to Congress and to the nation's public health agenda, a thorough understanding of children at different developmental stages regarding their attitudes toward healthy food choices, and the barriers and motivations for adopting and sustaining these choices is essential. Additionally, a thorough understanding of parents who can influence the health behaviors of children is important. This understanding will facilitate the development of messages, strategies, and tactics that resonate with children, parents, and other influencers.

The focus groups will be conducted in three phases: Phase One will address “tweens” (ages 9-13) and parents of tweens; Phase 2 will focus on children 6-8 years old and their parents, and Phase 3 will conduct groups with parents of children under 6 years old. Current literature and opinion leaders both strongly suggest that tweens greatly influence their parents' and younger siblings' nutritional decisions.

For each phase, 36 focus groups will be conducted; thus, three phases will amount to 108 total focus groups. In Phases 1 and 2, focus groups will involve both youth and their parents or key caregivers. In this way, CDC can gain insight into both parents' and children's views and family shared decision-making associated with food choices and attitudes toward healthy eating patterns. For Phase 3, 36 focus groups about the toddler/young child set (ages 1-5) will be held with their parents and other important influencers such as educators, primary caregivers, health care providers. (See chart below for specifics on structure and related burden.)

All focus group recruiting will incorporate appropriate representation of diverse ethnic groups, and the groups will be held in several cities to ensure broad geographic representation. Participants will be recruited by focus group facilities utilizing their database to solicit and screen interested parties. The screening process will include two calls for every successful recruit, each taking approximately 5 minutes. Each focus group will be asked to respond verbally. The moderator will utilize a prepared guide which is designed to specifically ensure that the discussion is limited to 2 hours.

The intent of this research is to solicit input and feedback from potential audiences. The information gathered will be used to develop, refine, and modify messages and strategies to increase healthy food choices by children and parents. There is no cost to respondents other than their time to participate in the survey.

Estimated Annualized Burden Hours

Respondents | No. of respondents | No. of responses per respondent | Average burden per response (in hours) | Total burden (hours)
Phase 1: Recruitment | 528 | 1 | 10/60 | 88
Phase 1: Tweens (ages 9-13); | 264 | 1 | 2 | 528
Phase 1: Parents of tweens; | 120 | 1 | 2 | 240
Phase 2: Recruitment | 528 | 1 | 10/60 | 88
Phase 2: Elementary aged children (ages 5-8); | 264 | 1 | 2 | 528
Phase 2: Parents of elementary aged children | 120 | 1 | 2 | 240
Phase 3: Recruitment | 720 | 1 | 10/60 | 120
Phase 3: Parents of preschoolers (ages 1-4); | 360 | 1 | 2 | 720
Total |  |  |  | 2552

Dated: August 28, 2006.
Joan F. Karr,
Acting Reports Clearance Officer, Centers for Disease Control and Prevention.

[FR Doc. E6-14620 Filed 9-1-06; 8:45 am]

BILLING CODE 4163-18-P